DEPARTMENT OF TRANSPORTATION

Federal Aviation Administration

Aviation Rulemaking Advisory Committee Meeting on Transport Airplane and Engine Issues

AGENCY: Federal Aviation Administration (FAA), DOT.

ACTION: Notice of public meeting.

SUMMARY: This notice announces a public meeting of the FAA's Aviation Rulemaking Advisory Committee (ARAC) to discuss transport airplane and engine (TAE) issues.

DATES: The meeting is scheduled for May 14, 2004, from 11 a.m. to 1:30 p.m.

ADDRESSES: Federal Aviation Administration, 800 Independence Ave, SW., Room 810, Washington, DC 20591.

FOR FURTHER INFORMATION CONTACT: Alicia K. Douglas, Office of Rulemaking, ARM-204, FAA, 800 Independence Avenue, SW., Washington, DC 20591; telephone (202) 267-9681; facsimile (202) 267-5075; or e-mail at alicia.k.douglas@faa.gov.

SUPPLEMENTARY INFORMATION: Pursuant to section 10(a)(2) of the Federal Advisory Committee Act (Pub. L. 92-463; 5 U.S.C. app. III), notice is given of an ad hoc ARAC meeting to be held May 14, 2004, at the Federal Aviation Administration, 800 Independence Ave., Room 810, Washington, DC. The meeting/teleconference is being held to approve the Avionics Systems Harmonization Working Group (AVSHWG) report and draft associated advisory circular that addresses section 25.1322 pertaining to flight deck alerting systems. The TAE expected to vote on the AVSHWG report and associated draft advisory circular, but did not because of concerns associated with the lack of display color guidance contained in the draft advisory circular, at the February 2004 TAE meeting. At that time, however, TAE members agreed to accept the report and draft advisory circular but to hold the vote at a future date, after the AVSHWG addressed the concerns. This ad hoc TAE meeting is necessary because the AVSHWG report is directly linked to a safety enhancement recommended by the Commercial Aviation Safety Team (CAST).

The agenda will include:

• Opening remarks.

• Avionics HWG Report and Draft Advisory Circular, AC 25.1322, and Approval.

Attendance is open to the public, but will be limited to the availability of meeting room space and telephone lines. The public may participate by teleconference by contacting the person listed under the heading FOR FURTHER INFORMATION CONTACT after May 4. The public must make arrangements by May 7 to present oral statements at the meeting. Written statements may be presented to the committee at any time by providing 25 copies to the Assistant Executive Director for Transport Airplane and Engine issues or by providing copies at the meeting. Copies of the documents to be voted upon may be made available by contacting the person listed under the heading FOR FURTHER INFORMATION CONTACT.

If you are in need of assistance or require a reasonable accommodation for the meeting or meeting documents, please contact the person listed under the heading FOR FURTHER INFORMATION CONTACT. Sign and oral interpretation, as well as a listening device, can be made available if requested 10 calendar days before the meeting.

Issued in Washington, DC, on April 20, 2004.
Ida M. Klepper,
Acting Executive Director, Aviation Rulemaking Advisory Committee.

[FR Doc. 04-9390 Filed 4-23-04; 8:45 am]

BILLING CODE 4910-13-P